DEPARTMENT OF HEALTH AND HUMAN SERVICES

Administration on Aging

[Program Announcement No. AoA-03-01]

Fiscal Year 2003 Program Announcement; Availability of Funds and Notice Regarding Applications

AGENCY: Administration on Aging, HHS.

ACTION: Announcement of availability of funds and request for applications.

SUMMARY: The Administration on Aging announces that under this program announcement it will hold a competition for a cooperative agreement to fund a National Long-Term Care Ombudsman Center at $550,000 per year for a period of 3 years.

Legislative authority: The Older Americans Act, Pub. L. 106-501 (Catalog of Federal Domestic Assistance 93.048, Title IV and Title II Discretionary Projects).

Purpose of grant award: This cooperative agreement project will support the National Long-Term Care Ombudsman Program. The award will be a cooperative agreement because AoA will be substantially involved in the development and implementation of the project. The cooperative agreement will provide for training, technical assistance and support to State Agencies on Aging and to the directors of the Offices of the State Long-Term Care Ombudsman in every state, the District of Columbia, Puerto Rico and Guam.

Eligibility for grant awards and other requirements: Eligibility for a cooperative agreement is limited to public and/or nonprofit agencies and organizations, including faith-based organizations and community-based organizations. To be considered for funding, however, a qualified applicant must demonstrate knowledge and experience with the Long-Term Care Ombudsman Program at national, state and local levels, as well as a thorough command of the history and current status of the program and the policy considerations bearing on its future development. This requirement is intended to ensure high quality training and assistance for the Long-Term Care Ombudsman Program.

Grantees are required to provide at least 25% of the total program costs from non-federal cash or in-kind resources in order to be considered for the award.

DATES: The deadline date for the submission of applications is April 28, 2003.

ADDRESSES: Application kits are available by writing to Administration on Aging, U.S. Department of Health and Human Services, Washington, DC 20201, attn: Sue Wheaton, or by calling (202) 357-3587.

Applications kits are also available at http://www.aoa.gov/egrants.

Applications may be mailed to the Office of Grants Management at the same address or hand-delivered to Administration on Aging, Office of Grants Management, One Massachusetts Avenue, Washington, DC.

Instructions for electronic mailing of grant applications are available at http://www.aoa.gov/egrants.

Dated: March 7, 2003.
Josefina G. Carbonell,
Assistant Secretary for Aging.

[FR Doc. 03-5863 Filed 3-11-03; 8:45 am]

BILLING CODE 4154-01-P